FEDERAL RETIREMENT THRIFT INVESTMENT BOARD

Notice of Board Meeting

DATES: June 28, 2022 at 10 a.m.

ADDRESSES: Telephonic. Dial-in (listen only) information: Number: 1-202-599-1426, Code: 584 412 888#; or via web: https://teams.microsoft.com/l/meetup-join/19%3ameeting_NzFkODU3NDgtZmVlZC00MTc4LWI3YTYtNGU4MDUxNjAwMGVh%40thread.v2/0?context=%7b%22Tid%22%3a%223f6323b7-e3fd-4f35-b43d-1a7afae5910d%22%2c%22Oid%22%3a%227c8d802c-5559-41ed-9868-8bfad5d44af9%22%7d.

FOR FURTHER INFORMATION CONTACT: Kimberly Weaver, Director, Office of External Affairs, (202) 942-1640.

SUPPLEMENTARY INFORMATION:

Board Meeting Agenda

Open Session

1. Approval of the May 24, 2022 Board Meeting Minutes

2. Converge Update

3. Monthly Reports

(a) Participant Activity Report

(b) Investment Report

(c) Legislative Report

4. Quarterly Report

(d) Vendor Risk Management Report

5. 2021 Federal Employee Viewpoint Survey (FEVS) Update

Authority: 5 U.S.C. 552b(e)(1).

Dated: June 15, 2022.
Dharmesh Vashee,
General Counsel, Federal Retirement Thrift Investment Board.

[FR Doc. 2022-13253 Filed 6-21-22; 8:45 am]

BILLING CODE P